DEPARTMENT OF COMMERCE

National Oceanic and Atmospheric Administration

50 CFR Part 679

[Docket No. 060216044-6044-01; I.D. 010807A]

Fisheries of the Exclusive Economic Zone Off Alaska; Inseason Adjustment to the 2007 A and B Season Allowances of Pollock in Statistical Area 620 in the Gulf of Alaska

AGENCY: National Marine Fisheries Service (NMFS), National Oceanic and Atmospheric Administration (NOAA), Commerce.

ACTION: Temporary rule; inseason adjustment; request for comments.

SUMMARY: NMFS is adjusting the A and B season allowances of pollock in Statistical Area 620 of the Gulf of Alaska (GOA). This action is necessary because the current A and B season allowances of pollock in Statistical Area 620 of the GOA are incorrectly specified and to ensure the A and B season catch of pollock in Statistical Area 620 of the GOA does not exceed the appropriate amount, based on the best available scientific information for pollock in the GOA. This action is consistent with the goals and objectives of the Fishery Management Plan for Groundfish of the Gulf of Alaska.

DATES: Effective 1200 hrs, Alaska local time (A.l.t.), January 16, 2007, through 2400 hrs, A.l.t., April 15, 2007, unless otherwise modified or superceded through publication of a notification in the Federal Register.

Comments must be received at the following address no later than 4:30 p.m., A.l.t., January 31, 2007.

ADDRESSES: Send comments to Sue Salveson, Assistant Regional Administrator, Sustainable Fisheries Division, Alaska Region, NMFS, Attn: Ellen Sebastian. Comments may be submitted by:

• Mail to: P.O. Box 21668, Juneau, AK 99802;

• Hand delivery to the Federal Building, 709 West 9th Street, Room 420A, Juneau, Alaska;

• FAX to 907-586-7557;

• E-mail to 620PLCKADJUSTMENT@noaa.gov and include the subject line of the e-mail comment the document identifier: 620PLCKADJUSTMENT (E-mail comments, with or without attachments, are limited to 5 megabytes); or

• Webform at the Federal eRulemaking Portal: http://www.regulations.gov. Follow the instructions at that site for submitting comments.

FOR FURTHER INFORMATION CONTACT: Jennifer Hogan, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

The 2007 total allowable catch of pollock in Statistical Area 620 of the GOA is 24,275 metric tons (mt) as established by the 2006 and 2007 harvest specification for groundfish in the GOA (71 FR 10870, March 3, 2006). The A season allowance is 8,910 mt and the B season allowance is 10,663 mt for pollock in Statistical area 620 of the GOA as established by the 2006 and 2007 harvest specification for groundfish in the GOA (71 FR 10870, March 3, 2006).

In December 2006, the Council recommended 2007 A and B season allowances of pollock in Statistical Area 620 of 7,357 mt and 8,924 mt, respectively. This amount is less than the A and B season allowances currently established by the 2006 and 2007 harvest specification for groundfish in the GOA (71 FR 10870, March 3, 2006). The A and B season allowances as recommended by the Council are based on the Stock Assessment and Fishery Evaluation report (SAFE), dated November 2006, which is the best available scientific information for this fishery.

In accordance with § 679.25(a)(2)(i)(B), the Administrator, Alaska Region, NMFS (Regional Administrator), has determined, based on the November 2006 SAFE report for this fishery, that the current A and B season allowances of pollock in Statistical Area 620 of the GOA are incorrectly specified. Consequently, the Regional Administrator is adjusting the 2007 A and B season allowances of pollock in Statistical Area 620 of the GOA to 7,357 mt and 8,924 mt, respectively.

Pursuant to § 679.20(a)(5)(iv), Tables 6, 13, and 16 of the 2006 and 2007 final harvest specifications for groundfish in the GOA (71 FR 10870, March 3, 2006) are revised for the 2007 A and B season allowances of pollock in Statistical Area 620 of the GOA consistent with this adjustment.

Table 6 - Final 2007 Distribution of Pollock in the Central and Western Regulatory Areas of the Gulf of Alaska; Seasonal Biomass Distribution, Area Apportionments; and Seasonal Allowances of Annual TAC.
[Values are rounded to the nearest metric ton]
Area Apportionments Resulting From Seasonal Distribution of Biomass: Season | Area Apportionments Resulting From Seasonal Distribution of Biomass: Shumagin (Area 610) | Area Apportionments Resulting From Seasonal Distribution of Biomass: Chirikof (Area 620) | Area Apportionments Resulting From Seasonal Distribution of Biomass: Kodiak (Area 630) | Area Apportionments Resulting From Seasonal Distribution of Biomass: Total
A | 3,352 (21.63%) | 7,357 (52.76%) | 3,234 (20.87%) | 13,943 (100%)
B | 3,352 (21.63%) | 8,924 (64.87%) | 1,481 (9.56%) | 13,757 (100%)
C | 8,159 (52.65%) | 2,351 (15.17%) | 4,986 (32.18%) | 15,496 (100%)
D | 8,159 (52.65%) | 2,351 (15.17%) | 4,986 (32.18%) | 15,496 (100%)
Annual Total | 23,022 | 20,983 | 14,687 | 58,692

Table 13 - Final 2007 GOA Non-Exempt American Fisheries Act Catcher Vessel (CV) Groundfish Harvest Sideboard Limitations.
[Values are in metric tons]
Species | Apportionments and allocations by area/season/processor/gear | Ratio of 1995-1997 non-exempt AFA CV catch to 1995-1997 TAC | 2007 TAC | 2007 non-exempt AFA catcher vessel sideboard
Pollock | A Season (W/C areas only) January 20 - February 25 |  |  |
| Shumagin (610) | 0.6112 | 3,352 | 2,049
| Chirikof (620) | 0.1427 | 7,357 | 1,050
| Kodiak (630) | 0.2438 | 3,234 | 788
| B Season (W/C areas only) March 10 - May 31 |  |  |
| Shumagin (610) | 0.6112 | 3,352 | 2,049
| Chirikof (620) | 0.1427 | 8,924 | 1,274
| Kodiak (630) | 0.2438 | 1,481 | 361
| C Season (W/C areas only) August 25 - September 15 |  |  |
| Shumagin (610) | 0.6112 | 8,159 | 4,987
| Chirikof (620) | 0.1427 | 2,351 | 335
| Kodiak (630) | 0.2438 | 4,986 | 1,216
| D Season (W/C areas only) October 1 - November 1 |  |  |
| Shumagin (610) | 0.6112 | 8,159 | 4,987
| Chirikof (620) | 0.1427 | 2,351 | 335
| Kodiak (630) | 0.2438 | 4,986 | 1,216
| Annual |  |  |
| WYK (640) | 0.3499 | 1,426 | 499
| SEO (650) | 0.3499 | 6,157 | 2,154
Pacific cod | A Season¹ January 1 - June 10 |  |  |
| W inshore | 0.1423 | 7,813 | 1,112
| W offshore | 0.1026 | 868 | 89
| C inshore | 0.0722 | 11,019 | 796
| C offshore | 0.0721 | 1,224 | 88
| B Season² September 1 - December 31 |  |  |
| W inshore | 0.1423 | 5,209 | 741
| W offshore | 0.1026 | 579 | 59
| C inshore | 0.0722 | 7,346 | 530
| C offshore | 0.0721 | 816 | 59
| Annual |  |  |
| E inshore | 0.0079 | 2,404 | 19
| E offshore | 0.0078 | 267 | 2
Flatfish deep-water | W | 0.0000 | 421 |
| C | 0.0670 | 4,145 | 278
| E | 0.0171 | 4,111 | 70
Rex sole | W | 0.0010 | 1,096 | 1
| C | 0.0402 | 5,207 | 209
| E | 0.0153 | 2,397 | 37
Flathead sole | W | 0.0036 | 2,000 | 7
| C | 0.0261 | 5,000 | 131
| E | 0.0048 | 2,153 | 10
Flatfish shallow-water | W | 0.0156 | 4,500 | 70
| C | 0.0598 | 13,000 | 777
| E | 0.0126 | 2,472 | 31
Arrowtooth flounder | W | 0.0021 | 8,000 | 17
| C | 0.0309 | 25,000 | 773
| E | 0.0020 | 5,000 | 10
Sablefish | W trawl gear | 0.0000 | 472 | 0
| C trawl gear | 0.0720 | 1,126 | 81
| E trawl gear | 0.0488 | 257 | 13
Pacific ocean perch | W | 0.0623 | 4,290 | 267
| C | 0.0866 | 7,660 | 663
| E | 0.0466 | 2,776 | 129
Shortraker rockfish | W | 0.0000 | 153 | 0
| C | 0.0237 | 353 | 8
| E | 0.0124 | 337 | 4
Rougheye rockfish | W | 0.0000 | 133 | 0
| C | 0.0237 | 596 | 14
| E | 0.0124 | 235 | 3
Other rockfish | W | 0.0034 | 577 | 2
| C | 0.2065 | 386 | 80
| E | 0.0000 | 517 | 0
Northern rockfish | W | 0.0003 | 1,483 | 0
| C | 0.0336 | 3,608 | 121
Pelagic shelf rockfish | W | 0.0001 | 1,463 | 0
| C | 0.0000 | 3,318 | 0
| E | 0.0067 | 749 | 5
Thornyhead rockfish | W | 0.0308 | 513 | 16
| C | 0.0308 | 989 | 30
| E | 0.0308 | 707 | 22
Big skates | W | 0.0090 | 695 | 6
| C | 0.0090 | 2,250 | 20
| E | 0.0090 | 599 | 5
Longnose skates | W | 0.0090 | 65 | 1
| C | 0.0090 | 1,969 | 18
| E | 0.0090 | 861 | 8
Other skates | GW | 0.0090 | 1,617 | 15
Demersal shelf rockfish | SEO | 0.0020 | 410 | 1
Atka mackerel | Gulfwide | 0.0309 | 1,500 | 46
Other species | Gulfwide | 0.0090 | 12,229 | 110
¹The Pacific cod A season for trawl gear does not open until January 20.
²The Pacific cod B season for trawl gear closes November 1.

Table 16 - Final 2007 GOA Non American Fisheries Act Crab Vessel (CV) Groundfish Harvest Sideboard Limitations.
[Values are rounded to nearest metric ton]
Species | Apportionments and allocations by area/season/processor/gear | Ratio of 1996-2000 non-AFA CV catch to 1996-2000 total harvest | 2007 TAC | 2007 non-AFA crab vessel sideboard
Pollock | A Season (W/C areas only) January 20 - March 10 |  |  |
| Shumagin (610) | 0.0098 | 3,352 | 33
| Chirikof (620) | 0.0031 | 7,357 | 23
| Kodiak (630) | 0.0002 | 3,234 | 1
| B Season (W/C areas only) March 10 - May 31 |  |  |
| Shumagin (610) | 0.0098 | 3,352 | 33
| Chirikof (620) | 0.0031 | 8,924 | 28
| Kodiak (630) | 0.0002 | 1,481 | 0
| C Season (W/C areas only) August 25 - October 1 |  |  |
| Shumagin (610) | 0.0098 | 8,159 | 80
| Chirikof (620) | 0.0031 | 2,351 | 7
| Kodiak (630) | 0.0002 | 4,986 | 1
| D Season (W/C areas only) October 1 - November 1 |  |  |
| Shumagin (610) | 0.0098 | 8,159 | 80
| Chirikof (620) | 0.0031 | 2,351 | 7
| Kodiak (630) | 0.0002 | 4,986 | 1
| Annual |  |  |
| WYK (640) | 0.0000 | 1,426 | 0
| SEO (650) | 0.0000 | 6,157 | 0
Pacific cod | A Season¹ January 1 - June 10 |  |  |
| W inshore | 0.0902 | 7,813 | 705
| W offshore | 0.2046 | 868 | 178
| C inshore | 0.0383 | 11,019 | 422
| C offshore | 0.2074 | 1,224 | 254
| B Season² September 1 - December 31 |  |  |
| W inshore | 0.0902 | 5,209 | 470
| W offshore | 0.2046 | 579 | 118
| C inshore | 0.0383 | 7,346 | 281
| C offshore | 0.2074 | 816 | 169
| Annual |  |  |
| E inshore | 0.0110 | 2,404 | 26
| E offshore | 0.0000 | 267 | 0
Flatfish deep-water | W | 0.0035 | 421 | 1
| C | 0.0000 | 4,145 | 0
| E | 0.0000 | 4,111 | 0
Rex sole | W | 0.0000 | 1,096 | 0
| C | 0.0000 | 5,207 | 0
| E | 0.0000 | 2,397 | 0
Flathead sole | W | 0.0002 | 2,000 | 0
| C | 0.0004 | 5,000 | 2
| E | 0.0000 | 2,153 | 0
Flatfish shallow-water | W | 0.0059 | 4,500 | 27
| C | 0.0001 | 13,000 | 1
| E | 0.0000 | 2,472 | 0
Arrowtooth flounder | W | 0.0004 | 8,000 | 3
| C | 0.0001 | 25,000 | 3
| E | 0.0000 | 5,000 | 0
Sablefish | W trawl gear | 0.0000 | 472 | 0
| C trawl gear | 0.0000 | 1,126 | 0
| E trawl gear | 0.0000 | 257 | 0
Pacific ocean perch | W | 0.0000 | 4,290 | 0
| C | 0.0000 | 7,660 | 0
| E | 0.0000 | 2,776 | 0
Shortraker rockfish | W | 0.0013 | 153 | 0
| C | 0.0012 | 353 | 0
| E | 0.0009 | 337 | 0
Rougheye rockfish | W | 0.0067 | 133 | 1
| C | 0.0047 | 596 | 3
| E | 0.0008 | 235 | 0
Other rockfish | W | 0.0035 | 577 | 2
| C | 0.0033 | 386 | 1
| E | 0.0000 | 517 | 0
Northern rockfish | W | 0.0005 | 1,483 | 1
| C | 0.0000 | 3,608 | 0
Pelagic shelf rockfish | W | 0.0017 | 1,463 | 2
| C | 0.0000 | 3,318 | 0
| E | 0.0000 | 749 | 0
Thornyhead rockfish | W | 0.0047 | 513 | 2
| C | 0.0066 | 989 | 7
| E | 0.0045 | 707 | 3
Big skates | W | 0.0392 | 695 | 27
| C | 0.0159 | 2,250 | 36
| E | 0.0000 | 599 | 0
Longnose skate | W | 0.0392 | 65 | 3
| C | 0.0159 | 1,969 | 36
| E | 0.0000 | 861 | 0
Other skates | GW | 0.0176 | 1,617 | 28
Demersal shelf rockfish | SEO | 0.0000 | 410 | 0
Atka mackerel | Gulfwide | 0.0000 | 1,500 | 0
Other species | Gulfwide | 0.0176 | 12,229 | 215
¹The Pacific cod A season for trawl gear does not open until January 20.
²The Pacific cod B season for trawl gear closes November 1.

Classification

This action responds to the best available information recently obtained from the fishery. The Assistant Administrator for Fisheries, NOAA (AA), finds good cause to waive the requirement to provide prior notice and opportunity for public comment pursuant to the authority set forth at 5 U.S.C. 553(b)(B) and 679.25(c)(2) as such requirement is impracticable and contrary to the public interest. This requirement is impracticable and contrary to the public interest as it would prevent NMFS from responding to the most recent fisheries data in a timely fashion and would allow for harvests that exceed the appropriate A and B season allowances of pollock in Statistical Area 620 of the GOA based on the best scientific information available. NMFS was unable to publish a notice providing time for public comment because the most recent, relevant data only became available as of December 19, 2006, and additional time for prior public comment would result in conservation concerns.

The AA also finds good cause to waive the 30-day delay in the effective date of this action under 5 U.S.C. 553(d)(3). This finding is based upon the reasons provided above for waiver of prior notice and opportunity for public comment.

Under § 679.25(c)(2), interested persons are invited to submit written comments on this action to the above address until January 31, 2007.

This action is required by § 679.22 and is exempt from review under Executive Order 12866.

Authority: 16 U.S.C. 1801 et seq.

Dated: January 8, 2007.
James P. Burgess,
Acting Director, Office of Sustainable Fisheries, National Marine Fisheries Service.

[FR Doc. 07-120 Filed 1-10-07; 12:43 pm]

BILLING CODE 3510-22-S